FEDERAL RESERVE SYSTEM

Change in Bank Control Notices; Acquisitions of Shares of Banks or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 24, 2000.

A. Federal Reserve Bank of Atlanta (Cynthia C. Goodwin, Vice President) 104 Marietta Street, N.W., Atlanta, Georgia 30303-2713:

1. Adam Gregory Chapman; Jonathan Luke Chapman; Lance Randall Chapman; Margaret Fruge Chapman; Charles Randel Chapman; Brenda Vidrine Fruge; Jack Cleveland Fruge, Sr.; Jack C. Fruge, Sr. Charitable Remainder Unitrust; Katherine Stephenson LaFleur; all of Ville Platte, Louisiana; Jack Cleveland Fruge, Jr.; Jacques Cleveland Fruge, III; Emily Jeanne Fruge; all of Lafayette, Louisiana; and Jaqueline Stephenson LeCompte, New Iberia, Louisiana; all to retain voting shares of Evangeline Bancshares, Inc., Ville Platte, Louisiana, and thereby indirectly retain voting shares of Evangeline Bank & Trust Company, Ville Platte, Louisiana.

Board of Governors of the Federal Reserve System, October 4, 2000.
Robert deV. Frierson,
Associate Secretary of the Board.

[FR Doc. 00-25955 Filed 10-6-00; 8:45 am]

BILLING CODE 6210-01-P